DEPARTMENT OF TRANSPORTATION

Federal Aviation Administration

14 CFR Part 39

[Docket No. FAA-2007-0115; Directorate Identifier 2007-CE-080-AD; Amendment 39-16067; AD 2007-26-08 R1]

RIN 2120-AA64

Airworthiness Directives; Reims Aviation S.A. Model F406 Airplanes

AGENCY: Federal Aviation Administration (FAA), Department of Transportation (DOT).

ACTION: Final rule.

SUMMARY: We are rescinding an existing airworthiness directive (AD) for the products listed above. The existing AD resulted from mandatory continuing airworthiness information (MCAI) issued by an aviation authority of another country to identify and correct an unsafe condition on an aviation product. The MCAI describes the unsafe condition as:

On several occasions, leaks of the landing gear emergency blowdown bottle have been reported. Investigations revealed that the leakage was located on the nut manometer because of a design deficiency in the bottle head.

If left uncorrected, the internal bottle pressure could not be maintained to an adequate level and could result in a malfunction, failing to extend landing gears during emergency situations.

Since issuance of that AD, we have determined that the condition is not unsafe.

DATES: This AD becomes effective December 4, 2009.

ADDRESSES: You may examine the AD docket on the Internet at http://www.regulations.gov or in person at Document Management Facility, U.S. Department of Transportation, Docket Operations, M-30, West Building Ground Floor, Room W12-140, 1200 New Jersey Avenue, SE., Washington, DC 20590.

FOR FURTHER INFORMATION CONTACT: Mike Kiesov, Aerospace Engineer, FAA, Small Airplane Directorate, 901 Locust, Room 301, Kansas City, Missouri 64106; telephone: (816) 329-4144; fax: (816) 329-4090.

SUPPLEMENTARY INFORMATION:

Discussion

We issued a notice of proposed rulemaking (NPRM) to amend 14 CFR part 39 to include an AD that would apply to the specified products. That NPRM was published in the Federal Register on July 31, 2009 (74 FR 38140), and proposed to rescind AD 2007-26-08, Amendment 39-15310 (72 FR 73258, December 27, 2007).

Since we issued AD 2007-26-08, we have reconsidered this AD with respect to the determination of an unsafe condition.

We issued AD 2007-26-08 in consideration of the MCAI from an aviation authority of another country to identify and correct an unsafe condition on an airplane. At that time, we were not aware that there were several Cessna Aircraft Company (Cessna) model airplanes equipped with the same blowdown bottle part number (P/N) 9910154-4.

Before issuing an AD on domestic products, we prepare a risk assessment of the unsafe condition. A risk assessment was done for the Cessna model airplanes. The result of that assessment was not high enough to support AD action since the system is a backup system to the primary landing gear extension system.

Based on this risk assessment, we reevaluated the existing AD against Reims Aviation Model 406 airplanes (AD 2007-26-08) and determined the condition identified in the AD is not an unsafe condition.

Comments

We gave the public the opportunity to participate in developing this AD. We received no comments on the NPRM or on the determination of the cost to the public.

Conclusion

We reviewed the available data and determined that air safety and the public interest require adopting the AD as proposed.

FAA's Determination and Requirements of the AD Rescission

We are issuing this AD rescission because we evaluated all information and determined the condition identified in the existing AD is not unsafe and the AD is not necessary.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by rescinding AD 2007-26-08, Amendment 39-15310 (72 FR 73258, December 27, 2007):

2007-26-08 R1 Reims Aviation S.A.: Amendment 39-16067; Docket No. FAA-2007-0115; Directorate Identifier 2007-CE-080-AD.

Effective Date

(a) This airworthiness directive (AD) becomes effective December 4, 2009.

Affected ADs

(b) This AD rescinds AD 2007-26-08.

Applicability

(c) This AD applies to Model F406 airplanes, all serial numbers, that are:

(1) equipped with landing gear emergency blowdown bottle part number (P/N) 9910154-4; and

(2) certificated in any category.

Issued in Kansas City, Missouri, on October 23, 2009.
Kim Smith,
Manager, Small Airplane Directorate, Aircraft Certification Service.

[FR Doc. E9-26126 Filed 10-29-09; 8:45 am]

BILLING CODE 4910-13-P